DEPARTMENT OF THE TREASURY

Internal Revenue Service

26 CFR Parts 1 and 301

[REG-106876-00]

RIN 1545-AY24

Revision of Income Tax Regulations under Sections 897, 1445, and 6109 to Require Use of Taxpayer Identifying Numbers on Submissions Under the Sections 897 and 1445 Regulations

AGENCY: Internal Revenue Service (IRS), Treasury.

ACTION: Cancellation of notice of public hearing on proposed rulemaking.

SUMMARY: This document provides notice of cancellation of a public hearing on proposed regulations that require the use of taxpayer identifying numbers on submissions under sections 897 and 1445 of the Internal Revenue Code.

DATES: The public hearing originally scheduled for November 13, 2002, at 10 a.m., is cancelled.

FOR FURTHER INFORMATION CONTACT: Treena Garrett of the Regulations Unit, Associate Chief Counsel (Income Tax and Accounting), (202) 622-7180 (not a toll-free number).

SUPPLEMENTARY INFORMATION: A notice of proposed rulemaking and notice of public hearing that appeared in the Federal Register on July 26, 2002, (67 FR 48823), announced that a public hearing was scheduled for November 13, 2002, at 10 a.m. in Room 6718, Internal Revenue Service Building, 1111 Constitution Avenue, NW., Washington, DC. The subject of the public hearing is proposed regulations under sections 897, 1445 and 6109 of the Internal Revenue Code. The public comment period for these proposed regulations expired on October 23, 2002.

The notice of proposed rulemaking and notice of public hearing, instructed those interested in testifying at the public hearing to submit a request to speak and an outline of the topics to be addressed. As of October 30, 2002, no one has requested to speak. Therefore, the public hearing scheduled for November 13, 2002, is cancelled.

Cynthia E. Grigsby,
Chief, Regulations Unit, Associate Chief Counsel (Income Tax and Accounting).

[FR Doc. 02-28017 Filed 11-1-02; 8:45 am]

BILLING CODE 4830-01-P